DEPARTMENT OF DEFENSE

Department of the Army

Availability of the Revised Draft Environmental Impact Statement (DEIS) for the Proposed Sauquoit Creek Flood Control Project at Whitesboro, NY

AGENCY: U.S. Army Corps of Engineers—New York District Department of the Army, Department of Defense.

ACTION: Notice of availability.

SUMMARY: In accordance with Section 205 of the Flood Control Act of 1948, the New York District Office of the Corps of Engineers proposes to provide flood protection for the town of Whitestown through modification of the Sauquoit Creek. The Corps has identified a history of frequent and serious flooding along the Sauquoit Creek in the town of Whitestown. The flooding is caused by both fluvial and ice-jam related events. The project extends from the entrance ramp of Route 5A to 1,000 feet above the confluence of Sauquoit Creek with the Mohawk River. The total length of the channel modification is approximately 1 mile ending with a 2,000 foot long V notch pilot channel. The channel modifications include widening, realigning and deepening along with construction of a low flow channel within the main channel. Bioengineering techniques will be utilized to stabilize the channel. The V notch pilot channel will serve to provide a smooth transition between the channel modifications and the natural streambed. The plan prevents damages from fluvial events up to the 25-year level.

DATES: Written comments received within 45 days of the publication of the Environmental Protection Agency's Notice of Availability will be considered by the Corps in preparing the Final EIS.

FOR FURTHER INFORMATION CONTACT: Address: New York District Corps of Engineers, CENAN-PL-ES, 26 Federal Plaza, New York NY 10278-0090.

Project Planner, Joseph Redican, Attn: CENAN-PL-FB, (202) 264-1060

Project Biologist, Kimberly Rightler, Attn: CENAN-PL-ES, (202) 264-9846

SUPPLEMENTARY INFORMATION: A Draft Environmental Impact Statement (DEIS) was filed in the Federal Register April 14, 1986. A Detailed Project Report comprised of a main report containing basic objectives, a final environmental impact statement (FEIS) and supporting documentation with the Sauquoit Creek project was completed in June 1986 and revised October 1987, but was never published in the Federal Register nor had a Record of Decision prepared.

Various structural and nonstructural alternatives to minimize flooding and ice jams were originally considered. Three plans were studied in detail (40, 50, 60 foot Channel Plan). The 60 Foot Channel Plan (Plan D3a) was designated the preferred plan by the New York District for its high benefits compared with its costs. The Plan consisted of channel modifications such as realignment, widening, deepening and a riprap armored trapezoidal channel along with constructing a high flow diversion channel connecting Sauquoit Creek to the Mohawk River.

Funding constraints and changes in administration policy delayed proposed implementation of the recommended plan and the FEIS was not filed in the Federal Register, pending resolution of these issues. Work resumed on the project in 1995 with the preparation of the plans and specifications phase. Due to the time that has lapsed and the project design changes, an updated draft EIS is necessary. The objective of this revised draft Environmental Impact Statement is to provide a description of the original and current projects, and to account for any potential impacts that may occur from construction disturbances since the original draft statement was written in 1984. Major revisions that have substantially reduced the amount of adverse impacts of the project made since the development of the 1984 DEIS include: (1) Elimination of the diversion channel and opening the culverts under the Conrail Bridge; (2) Incorporating bioengineering methods into the plan in lieu of all rip rap; (3) Installation of a low flow channel and a pilot channel.

Several scoping meetings were held at the time of the original environmental assessment for this project and significant issues related to the project were identified. The changes in the project design have decreased the environmental impacts; therefore an additional scoping meeting was not considered necessary.

Eugene Brickman,
Chief, Plan Formulation Branch.

[FR Doc. 00-27068 Filed 10-19-00; 8:45 am]

BILLING CODE 3710-06-M